DEPARTMENT OF THE INTERIOR

Fish and Wildlife Service

Hanford Reach National Monument Federal Advisory Committee; Meeting Notice

AGENCY: Fish and Wildlife Service, Interior.

ACTION: Notice; FACA meeting.

SUMMARY: The Hanford Reach National Monument Federal Advisory Committee will conduct a meeting on Wednesday, September 12, 2001 from 9 am to 4:30 pm and Thursday, September 13, from 1:30 pm to 4 pm in the Wahluke School District, Administration Building, Board Room, located at 411 East Saddle Mountain Dr., Mattawa, WA. The meeting is open to the public and press.

DATES: The meeting will take place Wednesday, September 12, 2001 from 9 am to 4:30 pm and Thursday, September 13, from 1:30 pm to 4 pm. Time will be made available for public comments to be heard during the meeting. Written comments received by September 13, 4 pm., will be incorporated into the meeting notes. Written comments received after the deadline will be accepted, but will not be incorporated into the meeting notes.

ADDRESSES: Any member of the public wishing to submit written comments should send those to Mr. Greg Hughes, Designated Federal Officer for the Hanford Reach National Monument Federal Advisory Committee, Hanford Reach National Monument/Saddle Mountain National Wildlife Refuge, 3250 Port of Benton Blvd., Richland, WA 99352; fax (509) 375-0196. Copies of the draft meeting agenda can be obtained from the Designated Federal Officer.

FOR FURTHER INFORMATION CONTACT: Any member of the public wishing further information concerning the meeting should contact Mr. Greg Hughes, Designated Federal Official for the Hanford Reach National Monument Federal Advisory Committee; phone (509) 371-1801, fax (509) 375-0196.

SUPPLEMENTARY INFORMATION: During this meeting, the Hanford Reach National Monument Federal Advisory Committee will select a Committee Chairperson, finalize Committee groundrules, hear informational presentations regarding the Comprehensive Conservation Plan process, and identify key decision points in the process.

Dated: August 9, 2001.
Jeff Haas,
Acting Project Leader, Hanford Reach National Monument.

[FR Doc. 01-20525 Filed 8-14-01; 8:45 am]

BILLING CODE 4310-55-P